SOCIAL SECURITY ADMINISTRATION

[Docket No: SSA-2017-0056]

Agency Information Collection Activities: Proposed Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov

(SSA), Social Security Administration, OLCA, Attn: Reports Clearance Director, 3100 West High Rise, 6401 Security Blvd., Baltimore, MD 21235, Fax: 410-966-2830, Email address: OR.Reports.Clearance@ssa.gov

Or you may submit your comments online through www.regulations.gov, referencing Docket ID Number [SSA-2017-0056].

The information collections below are pending at SSA. SSA will submit them to OMB within 60 days from the date of this notice. To be sure we consider your comments, we must receive them no later than December 26, 2017. Individuals can obtain copies of the collection instruments by writing to the above email address.

1. Request for Review of Hearing Decision/Order—20 CFR 404.967-404.981, 416.1467-416.1481—0960-0277. Claimants have a statutory right under the Social Security Act and current regulations to request review of an administrative law judge's (ALJ) hearing decision or dismissal of a hearing request on Title II and Title XVI claims. Claimants may request Appeals Council review by filing a written request using paper Form HA-520, or the Internet application, i520. SSA uses the information we collect to establish the claimant filed the request for review within the prescribed time, and to ensure the claimant completed the requisite steps permitting the Appeals Council review. The Appeals Council then uses the information to: (1) Document the claimant's reason(s) for disagreeing with the ALJ's decision or dismissal; (2) determine whether the claimant has additional evidence to submit; and (3) determine whether the claimant has a representative or wants to appoint one. The respondents are claimants requesting review of an ALJ's decision or dismissal of hearing.

Type of Request: Revision of an OMB-approved information collection.

Modality of completion | Number of respondents | Frequency of response | Average burden per response (minutes) | Estimated total annual burden (hours)
HA-520—Paper | 105,000 | 1 | 10 | 17,500
i520—Internet | 70,000 | 1 | 15 | 17,500
Totals | 175,000 |  |  | 35,000

2. You Can Make Your Payment by Credit Card—0960-0462. SSA uses the information we collect on Form SSA-4588, and its electronic application, Form SSA-4589, to update individuals' Social Security records to reflect payments made on their overpayments. In addition, SSA uses this information to process payments through the appropriate credit card company. SSA provides a copy of the SSA-4588 when we inform an individual that we detected an overpayment. Individuals may choose to make a one-time payment or recurring monthly payments when they complete and submit the SSA-4588. When individuals choose to telephone the Program Service Centers to make a one-time payment in lieu of completing Form SSA-4588, an SSA debtor contact representative completes the SSA-4589 electronic Intranet application. Respondents are Old Age Survivors and Disability Insurance (OASDI) beneficiaries and Supplemental Security Income (SSI) recipients who have outstanding overpayments.

Type of Request: Revision of an OMB-approved information collection.

Modality of completion | Number of respondents | Frequency of response | Average burden per response (minutes) | Estimated total annual burden (hours)
SSA-4588 (Paper) | 16,500 | 1 | 10 | 2,750
SSA-4589 (Electronic intranet application) | 258,500 | 1 | 5 | 21,542
Totals | 275,000 |  |  | 24,292

3. Request to Show Cause for Failure to Appear—20 CFR 404.938, 404.957(a)(ii), 416.1438—0960-0794. When claimants who requested a hearing before an ALJ fail to appear at their scheduled hearing, the ALJ may reschedule the hearing if the claimants establish good cause for missing the hearings. To establish good cause, claimants must show one of the following: (1) SSA did not properly notify the claimant of the hearing, or (2) an unexpected event occurred without sufficient time for the claimant to request a postponement. The claimants can use paper Form HA-L90 or HA-L90-OP1 to provide their reason for not appearing at their scheduled hearings; or the claimants' representatives can use Electronic Records Express (ERE), OMB Control No. 0960-0753, Internet screens to submit the HA-L90 online. SSA uses the HA-L90 for new cases, and the HA-L90-OP1 for redeterminations cases. We need two versions of the paper form, as the ALJ follows different procedures when determining the good cause on redetermination cases (cases that have a prior decision and evidence on file), than they do for new cases (where we have no evidence on file). The ERE modality automatically adjusts for redetermination cases, so we only need one version of the Internet screens. If the ALJ determines the claimants established good cause for failure to appear at the hearing, the ALJ will schedule a supplemental hearing; if not, the ALJ will make a claims eligibility determination based on the claimants' evidence of record. Respondents are claimants, or their representatives, seeking to establish good cause for failure to appear at a scheduled hearing before an ALJ.

Type of Request: Revision of an OMB-approved information collection.

Modality of completion | Number of responses | Frequency of response | Average burden per response (minutes) | Estimated total annual burden (hours)
HA-L90 | 39,500 | 1 | 10 | 6,583
HA-L90-OP1 | 500 | 1 | 10 | 83
Totals | 40,000 |  |  | 6,666
* We do not account for the ERE Internet screens here as we account for them under OMB Control No. 0960-0753.

Dated: October 23, 2017.
Naomi R. Sipple,
Reports Clearance Officer, Social Security Administration.

[FR Doc. 2017-23342 Filed 10-25-17; 8:45 am]

BILLING CODE 4191-02-P